DEPARTMENT OF TRANSPORTATION

Federal Aviation Administration

[Summary Notice No. PE-2002-08]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington DC., on February 1, 2002.
Donald P. Byrne,
Assistant Chief Counsel for Regulations.

Dispositions of Petitions

Docket No.: FAA-2001-10932 (previously Docket No. 29058).

Petitioner: Mr. John Leo Heverling.

Section of 14 CFR Affected: 14 CFR 91.109(a) and 9(b)(3).

Description of Relief Sought/Disposition: To permit Mr. Heverling to conduct certain flight instruction and simulated instrument flights to meet recent instrument experience requirements in certain Beechcraft airplanes equipped with a functioning throwover control wheel in place of functioning dual controls. Grant, 11/09/2001, Exemption No. 6719B.

Docket No.: FAA-2001-10875 (previously Docket No. 29534.

Petitioner: Fresh Water Adventures, Inc.

Section of 14 CFR Affected: 14 CFR 91.323(b)(4).

Description of Relief Sought/Disposition: To permit FWA to operate its Grumman goose G-21A amphibian aircraft at a weight that is in excess of that airplane's maximum certificated weight. Grant, 11/06/2001, Exemption No. 7070A.

Docket No.: FAA-2001-9940 (previously Docket No. 28639).

Petitioner: Peninsula Airways, Inc., dba PenAir.

Section of 14 CFR Affected: 14 CFR 121.574(a)(1) and (3).

Description of Relief Sought/Disposition: To permit the carriage and operation of oxygen storage and dispensing equipment for medical use by patients requiring emergency or continuing medical attention while onboard an aircraft operated by PenAir when the equipment is furnished and maintained by a hospital treating the patient. Grant, 11/06/2001, Exemption No. 6523C.

[FR Doc. 02-2831 Filed 2-5-02; 8:45 am]

BILLING CODE 4910-13-M